NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated under the Antarctic Conservation Act of 1978. NSF has published regulations under the Antarctic Conservation Act in the Code of Federal Regulations. This is the required notice of a requested permit modification issued.

FOR FURTHER INFORMATION CONTACT: Polly Penhale, ACA Permit Officer, Office of Polar Programs, National Science Foundation, 2415 Eisenhower Avenue, Alexandria, VA 22314; 703-292-7420; email: ACApermits@nsf.gov.

SUPPLEMENTARY INFORMATION: The National Science Foundation (NSF), as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection.

Description of Permit Modification Requested: The Foundation issued a permit (ACA 2020-013) to Dr. Nicholas Teets on January 2, 2020. The issued permit allows the permit holder and agents to access sites along the Antarctic Peninsula, including ASPAs 108, 126, and 134, to collect midges (Belgica antarctica) for physiology and genetic studies.

A recent modification to this permit, dated January 17, 2021, included ASPA 149 to the list of protected areas authorized for entry under this permit.

Now the applicant proposes a modification to extend the expiration date of the permit, which is set to expire July 1, 2022. Unforeseen circumstances due to the COVID-19 pandemic resulted in delayed fieldwork which will now be conducted during the 2022-2023 Antarctic research season.

The Environmental Officer has reviewed the modification request and has determined that the amendment is not a material change to the permit, and it will have a less than a minor or transitory impact.

DATES: January 2, 2020-July 1, 2023.

The permit modification was issued on April 15, 2022.

Erika N. Davis,
Program Specialist, Office of Polar Programs.

[FR Doc. 2022-08884 Filed 4-25-22; 8:45 am]

BILLING CODE 7555-01-P